FARM CREDIT ADMINISTRATION

Sunshine Act Meeting; Farm Credit Administration Board; Regular Meeting

AGENCY: Farm Credit Administration.

SUMMARY: Notice is hereby given, pursuant to the Government in the Sunshine Act (5 U.S.C. 552b(e)(3)), of the forthcoming regular meeting of the Farm Credit Administration Board (Board).

DATE AND TIME: The regular meeting of the Board will be held at the offices of the Farm Credit Administration in McLean, Virginia, on October 10, 2002, from 9 a.m. until such time as the Board concludes its business.

FOR FURTHER INFORMATION CONTACT: Jeanette C. Brinkley, Acting Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts of this meeting will be closed. In order to increase the accessibility to Board meetings, persons requiring assistance should make arrangements in advance. The matters to be considered at the meeting are:

Open Session

A. Approval of Minutes

• September 12, 2002 (Open)

• September 12, 2002 (Open and Closed)

• September 17, 2002 (Closed)

• September 26, 2002 (Open)

B. Reports

• Corporate Approvals

• Provisions of the 2002 Farm Bill

• Conditions and Trends in the Dallas Field Office Portfolio

C. New Business

• Regulations

• Final Rule—Adjusting Civil Money Penalties for Inflation

• Other

• Reaffiliation of Northwest Farm Credit Services, ACA with CoBank, ACB

• Merger of AgAmerica, FCB with and into AgriBank FCB

• East Carolina Farm Credit, ACA Restructuring

• Consolidation of the Federal Land Bank Association of Western Oklahoma, FLCA, Clinton, PCA, and PCA of Woodward to form an ACA (with subsidiaries)

Closed*

• New Business

• Investments

• Securities Issues

* Session Closed-Exempt pursuant to 5 U.S.C. 552b(c)(8) and (9).

Dated: October 4, 2002.
Jeanette C. Brinkley,
Acting Secretary, Farm Credit Administration Board.

[FR Doc. 02-25760 Filed 10-7-02; 10:32 am]

BILLING CODE 6705-01-P